DEPARTMENT OF THE INTERIOR

National Park Service

36 CFR Chapter I

Public Meeting of the Negotiated Rulemaking Advisory Committee for Off-Road Driving Regulations at Fire Island National Seashore

AGENCY: National Park Service, Interior.

ACTION: Notice of meetings.

SUMMARY: Notice is hereby given in accordance with the Federal Advisory Committee Act (Pub. L. 92-463, 86 Stat. 770, 5 U.S.C. App 1, section 10), of meetings of the Negotiated Rulemaking Advisory Committee for Off-Road Driving Regulations at Fire Island National Seashore (36 CFR 7.20).

DATES AND TIMES: The Committee will meet on the following dates—Friday and Saturday, June 28-29, 2002; Friday and Saturday, July 26-27, 2002; and Friday and Saturday, September 13-14, 2002. All meetings will begin at 9 a.m.

ADDRESSES: All meetings will be held at Dowling College, Oakdale, New York.

FOR FURTHER INFORMATION CONTACT: Constantine Dillon, Superintendent, Fire Island National Seashore, 120 Laurel Street, Patchogue, NY 11772, 631-289-4810 (Ext. 225).

SUPPLEMENTARY INFORMATION: Matters to be Considered: Meetings will be held for the to develop advice for the National Park Service with regard to proposed rulemaking governing off-road vehicle use at Fire Island National Seashore.

Below is the initial agenda for the Committee. There will be public comment periods during each negotiating session. However, the Committee may modify its agenda during the course of its work.

Session I—June 28-29, 2002

Welcoming Remarks by National Park Service

Introductions of Committee Members

Discuss and adopt Organizational Protocols (Committee groundrules)

Discuss and adopt draft agenda

Presentation and discussion on applicable laws, regulations, policies and data

Discussion of Committee Member's Ideas For Improving Management of Off-Road Vehicles

Discussion of Agenda for Next Meeting and Tasks Between Sessions

Adjourn Session I.

Session II—July 26-27, 2002

Review and Adopt Session I Meeting Summary

Discussion of Proposed Agenda for Session

Updates and Reports

Review and Discussion of Proposed Draft Rule

Refine Proposals, Seek Tentative Agreements, Clarify Outstanding Issues

Discussion of Agenda for Session III and Tasks Between Sessions

Adjourn Session II

Session III—September 13-14, 2002

Review and Adopt Session II Meeting Summary

Discussion of Proposed Agenda

Review and Discussion of Outstanding Issues

Review and Discussion of Outstanding Issues—Seek Tentative Agreement on Remaining Issues

Seek Consensus on Complete Draft Rule

Discuss Next Steps

Adjournment

The meetings are open to the public. It is expected that 75 persons will be able to attend the meetings in addition to the Committee members.

The Committee was established pursuant to the Negotiated Rulemaking Act of 1990 (5 U.S.C. 561-570). The purpose of the Committee is to advise the National Park Service with regard to proposed rulemaking governing off-road vehicle use at Fire Island National Seashore. Notice of intent to establish this committee was published in 65 FR 70674-70675, November 27, 2000.

Interested persons may make brief oral/written presentations to the Committee during the meetings or file written statements. Such presentations may be made to the Committee during the Public Comment Periods of the meeting, or in writing to the Park Superintendent at the above address at least seven days prior to the meeting.

Draft minutes of the meeting will be available for public inspection about 12 weeks after the meeting at Fire Island National Seashore, 120 Laurel Street, Patchogue, NY 11772.

Dated: April 2, 2002.
Constantine J. Dillon,
Superintendent, Fire Island National Seashore.

[FR Doc. 02-11048 Filed 5-3-02; 8:45 am]

BILLING CODE 4310-70-M